SMALL BUSINESS ADMINISTRATION

[Disaster Declaration #12599 and #12600]

Kentucky Disaster Number KY-00040

AGENCY: U.S. Small Business Administration.

ACTION: Amendment 2.

SUMMARY: This is an amendment of the Presidential declaration of a major disaster for the Commonwealth of Kentucky (FEMA-1976-DR), dated 05/19/2011.

Incident: Severe Storms, Tornadoes, and Flooding.

Incident Period: 04/22/2011 through 05/20/2011.

Effective Date: 05/26/2011.

Physical Loan Application Deadline Date: 07/18/2011.

EIDL Loan Application Deadline Date: 02/21/2012.

ADDRESSES: Submit completed loan applications to: U.S. Small Business Administration, Processing And Disbursement Center, 14925 Kingsport Road, Fort Worth, TX 76155.

FOR FURTHER INFORMATION CONTACT: A. Escobar, Office of Disaster Assistance, U.S. Small Business Administration, 409 3rd Street, SW., Suite 6050, Washington, DC 20416

SUPPLEMENTARY INFORMATION: The notice of the Presidential disaster declaration for the Commonwealth of KENTUCKY, dated 05/19/2011 is hereby amended to include the following areas as adversely affected by the disaster:

Primary Counties: (Physical Damage and Economic Injury Loans): Ballard, Daviess, Henderson, Lawrence, McLean, Pike.

Contiguous Counties: (Economic Injury Loans Only):

Kentucky: Elliott, Floyd, Hancock, Johnson, Knott, Letcher, Martin, Morgan, Muhlenberg, Ohio.

Illinois: Alexander.

Indiana: Spencer, Vanderburgh, Warrick.

Virginia: Buchanan, Dickenson, Wise.

West Virginia: Mingo.

All other information in the original declaration remains unchanged.

(Catalog of Federal Domestic Assistance Numbers 59002 and 59008)

James E. Rivera,
Associate Administrator for Disaster Assistance.

[FR Doc. 2011-13846 Filed 6-3-11; 8:45 am]

BILLING CODE 8025-01-P